ENVIRONMENTAL PROTECTION AGENCY

[EPA-HQ-OPPT-2024-0075; FRL-11746-01-OCSPP]

Draft Criteria for Product Category Rules To Support the Label Program for Low Embodied Carbon Construction Materials; Notice of Availability, Webinar and Request for Comment

AGENCY: Environmental Protection Agency (EPA).

ACTION: Notice.

SUMMARY: The Environmental Protection Agency (EPA) is announcing the availability of and seeking public comment on a draft document titled “EPA Criteria for Product Category Rules to Support the Label Program for Low Embodied Carbon Construction Materials” (PCR Criteria) and is announcing a webinar on March 21, 2024. The Inflation Reduction Act (IRA) authorized $100 million to EPA to develop a program to identify and label construction materials and products that have substantially lower embodied carbon, in coordination with the General Services Administration (GSA) and the Department of Transportation's Federal Highway Administration (FHWA).

DATES:

Webinar: March 21, 2024, 1-2 p.m. EST.

Registration: To receive the webcast meeting link and audio teleconference information before the meeting, you must register by 12 p.m. on March 21, 2024.

Special Accommodations: To allow EPA time to process your request for special accommodations, please submit your request to EPA by 5 p.m. EST on March 7, 2024.

Written comments: Submit your comments on or before April 4, 2024.

ADDRESSES: Webinar: Register online at https://www.zoomgov.com/webinar/register/WN_wE6i2h3qQc6WghXIDu7WFg.

Special Accommodations: Please contact the person listed under FOR FURTHER INFORMATION CONTACT.

Written comments: Submit your comments, identified by docket identification (ID) number EPA-HQ-OPPT-2024-0075, through https://www.regulations.gov. Follow the online instructions for submitting comments. Do not submit electronically any information you consider to be Confidential Business Information (CBI) or other information whose disclosure is restricted by statute. Additional instructions on commenting or visiting the docket, along with more information about dockets generally, is available at https://www.epa.gov/dockets.

FOR FURTHER INFORMATION CONTACT: Peter Bacas, Data Gathering & Analysis Division (4410G), Office of Chemical Safety and Pollution Prevention, Environmental Protection Agency, 1200 Pennsylvania Ave. NW, Washington, DC 20460-0001; telephone number: (202) 566-0549; email address: bacas.peter@epa.gov.

SUPPLEMENTARY INFORMATION:

I. Executive Summary

A. Does this action apply to me?

This is directed to the public in general. This notice may be of specific interest to Product Category Rule (PCR) Program Operators, PCR Committee members (trade associations, NGOs, material producers), Life Cycle Assessment (LCA) community members and PCR review panels. EPA will use this document to determine if PCRs are eligible to be used under EPA's Label Program for Low Embodied Carbon Construction Materials. Other interested stakeholders may include manufacturers of construction materials and products, Federal purchasers, institutional purchasers, private sector entities with large real estate portfolios, State and local governments and Tribal Nations purchasers, real estate developers, architects and engineers, standards development organizations, and construction trade groups and construction professionals.

B. What is the Agency's authority for taking this action?

IRA section 60116, 26 U.S.C. 55 et seq., authorized $100 million to EPA to develop a program to identify and label construction materials and products that have substantially lower embodied carbon, in coordination with the GSA and the FHWA.

C. What action is the Agency taking?

The Agency is requesting comment on the document titled “Criteria for Product Category Rules to Support the Label Program for Low Embodied Carbon Construction Materials” (PCR Criteria), which is available in the docket. EPA is requesting feedback on the PCR Criteria, which will enable the development of robust Environmental Product Declarations (EPDs) to be used for setting thresholds for the label program. EPA is also announcing a stakeholder engagement opportunity through a webinar. During the webinar EPA will give an informational presentation on the PCR Criteria.

D. What should I consider as I prepare my comments?

1. Submitting CBI. Do not submit CBI to EPA through https://www.regulations.gov or email. If you wish to include CBI in your comment, please follow the applicable instructions at https://www.epa.gov/dockets/commenting-epa-dockets#rules and clearly mark the part or all of the information that you claim to be CBI. In addition to one complete version of the comment that includes information claimed as CBI, a copy of the comment that does not contain the information claimed as CBI must be submitted for inclusion in the public docket. Information so marked will not be disclosed except in accordance with procedures set forth in 40 CFR part 2 and/or 40 CFR part 703, as applicable.

2. Tips for preparing your comments. When preparing and submitting your comments, see the commenting tips at https://www.epa.gov/dockets/commenting-epa-dockets.html.

II. Background

An increasing number of U.S. Federal, State, and local government procurement policies, as well as large institutional procurement policies, are aimed at driving down greenhouse gas (GHG) emissions related to construction materials. These policies often require manufacturers to disclose the embodied carbon of the materials and products they produce to be eligible for procurement. Embodied carbon refers to the amount of GHG emissions associated with the extraction, production, transport and manufacturing of materials and products.

The IRA, passed by Congress and signed into law in August 2022, leverages Federal procurement and funding of buildings and infrastructure to catalyze markets for American-made construction materials and products with lower embodied carbon (also known as embodied greenhouse gas emissions). IRA section 60116 provided EPA with $100 million to develop and carry out a program to identify and label construction materials and products that have substantially lower levels of embodied greenhouse gas emissions associated with all relevant stages of production, use, and disposal, as compared to estimated industry averages of similar materials or products. EPA is committed to developing a label program that creates an easy and reliable way for purchasers to identify and procure such lower embodied carbon construction materials and products. Standardizing and improving the quality of data provided in product Environmental Product Declarations (EPDs), including by establishing consistent PCR criteria, is an essential step in the development of the label program. An EPD is a disclosure document that discloses key environmental impacts of a product's life, as outlined in a PCR. A PCR is a set of guidelines that determine what data should be gathered and how it will be evaluated when conducting the life cycle analysis used to create the EPD. PCRs act as the guardrails by providing specific rules, requirements, and guidelines for calculating and reporting environmental data for a product.

Current data quality requirements and PCR process development approaches lack the consistency, transparency and oversight measures required by the Federal Government. Therefore, EPA's PCR Criteria document builds on existing standardization efforts in order to ensure high quality, consistent and transparent data and processes are used to develop the documents which will ultimately be used to set thresholds and certify products under the label program. Existing documents used to create EPA's PCR Criteria include the Agency's “Framework for the Assessment of Environmental Performance Standards and Ecolabels for Federal Purchasing” (https://www.epa.gov/system/files/documents/2022-02/updated-framework_020222.pdf), The “Product Category Rule Development Initiative's Guidance for PCR Development” (https://cfpub.epa.gov/si/si_public_record_report.cfm?dir;EntryId=259406&Lab=NRMRL) and the American Center for Life Cycle Assessment (ACLCA) guidance titled “2022 ACLCA PCR Guidance—Process and Methods Toolkit, Version May 2022” (https://aclca.org/wp-content/uploads/2022-ACLCA-PCR-Guidance_v1_Introduction_05252022.pdf) (“ACLCA PCR Guidance of 2022”).

Much of EPA's PCR Criteria document is based on the 2022 ACLCA PCR Guidance, primarily focusing on the second checklist at the data source level of conformance. However, the 2022 ACLCA PCR Guidance published prior to a Federal mandate to develop an embodied carbon label. As such, EPA's PCR Criteria document includes additional information needed to support EPA's Label Program for Low Embodied Carbon Materials and Products given the Federal Government's needs associated with public procurement, data specification, and other related items.

EPA received public feedback on actions needed to improve PCRs and EPDs in response to a request comment on a document titled “Request for Information (RFI) to Support New Inflation Reduction Act Programs to Lower Embodied Greenhouse Gas Emissions Associated with Construction Materials and Products (January 19, 2023)” (https://www.regulations.gov/docket/EPA-HQ-OPPT-2022-0924/document), as well as Federal subject matter feedback and support from the Department of Transportation's Federal Highways Administration, the General Services Administration, the Department of Energy, the Department of Commerce's National Institute of Standards and Technology, and others. See 88 FR 5002, January 26, 2023 (FRL-10439-01-OCSPP).

III. Request for Public Comment

A. What feedback does EPA hope to gain from the public comments?

EPA seeks feedback on whether the draft PCR Criteria adequately addresses existing gaps in data quality and standardization related to the PCRs to ensure robust, consistent, and representative EPDs are available to support the label program. EPA is also seeking input on the level of effort needed for PCRs to conform. EPA also welcomes specific input on each draft PCR criterion.

B. What is the request for information?

EPA encourages all potentially interested parties, including individuals, governmental and non-governmental organizations, non-profit organizations, academic institutions, research institutions, and private sector entities to comment on the PCR Criteria. To the extent possible, the Agency asks commenters to please cite any public data related to or that supports responses, and to the extent permissible, describe any supporting data that is not publicly available.

Authority: 26 U.S.C. 55 et seq.

Dated: February 29, 2024.
Jennie Romer,
Deputy Assistant Administrator, Office of Chemical Safety and Pollution Prevention.

[FR Doc. 2024-04593 Filed 3-4-24; 8:45 am]

BILLING CODE 6560-50-P